DEPARTMENT OF THE TREASURY

Internal Revenue Service

Superfund Tax on Chemical Substances; Request to Modify List of Taxable Substances; Notice of Filing for Potassium Bicarbonate

AGENCY: Internal Revenue Service (IRS), Treasury.

ACTION: Notice of filing and request for comments.

SUMMARY: This notice of filing announces that a petition has been filed requesting that potassium bicarbonate be added to the list of taxable substances. This notice of filing also requests comments on the petition. This notice of filing is not a determination that the list of taxable substances is modified.

DATES: Written comments and requests for a public hearing must be received on or before March 24, 2025.

ADDRESSES: Commenters are encouraged to submit public comments or requests for a public hearing relating to this petition electronically via the Federal eRulemaking Portal at https://www.regulations.gov (indicate public docket number IRS-2025-0009 or potassium bicarbonate) by following the online instructions for submitting comments. Comments cannot be edited or withdrawn once submitted to the Federal eRulemaking Portal. Alternatively, comments and requests for a public hearing may be mailed to: Internal Revenue Service, Attn: CC:PA:01:PR (Notice of Filing for Potassium Bicarbonate), Room 5203, P.O. Box 7604, Ben Franklin Station, Washington DC 20044. All comments received are part of the public record and subject to public disclosure. All comments received will be posted without change to www.regulations.gov, including any personal information provided. You should submit only information that you wish to make publicly available. If a public hearing is scheduled, notice of the time and place for the hearing will be published in the Federal Register.

FOR FURTHER INFORMATION CONTACT: Andrew Clark or Camille Edwards Bennehoff at (202) 317-6855 (not a toll-free number).

SUPPLEMENTARY INFORMATION:

Request to Add Substance to the List:

(a) Overview. A petition was filed pursuant to Rev. Proc. 2022-26 (2022-29 I.R.B. 90), as modified by Rev. Proc. 2023-20 (2023-15 I.R.B. 636), requesting that potassium bicarbonate be added to the list of taxable substances under section 4672(a) of the Internal Revenue Code (List). The petition requesting the addition of potassium bicarbonate to the List is based on weight and contains the information detailed in paragraph (b) of this document. The information is provided for public notice and comment pursuant to section 9 of Rev. Proc. 2022-26. The publication of petition information in this notice of filing is not a determination and does not constitute Treasury Department or IRS confirmation of the accuracy of the information published.

(b) Petition Content.

(1) Substance name: Potassium bicarbonate.

The substance is also known as K Bicarb or KCHO3.

(2) Petitioner: Occidental Chemical Corporation, an exporter of potassium bicarbonate.

(3) Proposed classification numbers:

(i) HTSUS number: 2836.40.2000.

(ii) Schedule B number: 2836.40.0000.

(iii) CAS number: 298-14-6.

(4) Petition filing dates:

(i) Petition filing date for purposes of making a determination: November 25, 2024.

(ii) Petition filing date for purposes of section 11.02 of Rev. Proc. 2022-26, as modified by section 3 of Rev. Proc. 2023-20: July 1, 2022.

(5) Description from petition: Potassium bicarbonate, a solid (powder), is used in cattle feed supplements and glass manufacture. It is also used as a food additive and can be a pharma-ingredient.

Potassium bicarbonate is made from potassium hydroxide. Taxable chemicals constitute 56.04 percent by weight of the materials used to produce this substance.

(6) Process identified in petition as predominant method of production of substance: The predominant process for manufacture of potassium bicarbonate is absorption of CO2 with potassium hydroxide. The predominant process for carbonate manufacture is absorption of CO2 with alkaline liquid. This substance is produced as a pure component, not a mixture.

(7) Stoichiometric material consumption equation, based on process identified as predominant method of production:

CO2 (carbon dioxide) + KOH (potassium hydroxide) → HKCO3 (potassium bicarbonate)

(8) Tax rate calculated by Petitioner, based on Petitioner's conversion factors for taxable chemicals used in production of substance:

(i) Tax rate: $0.25 per ton.

(ii) Conversion factors: 0.56 for Potassium hydroxide.

(9) Public docket number: IRS-2025-0009.

Michael Beker,
Senior Counsel (Energy, Credits, and Excise Tax), IRS Office of Chief Counsel.

[FR Doc. 2025-01372 Filed 1-17-25; 8:45 am]

BILLING CODE 4830-01-P